COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products and services from the Procurement List that were furnished by nonprofit agencies employing persons who are blind or have other severe disabilities.

DATES: Comments must be received on or before: July 21, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products and services are proposed for deletion from the Procurement List:

Products

NSNs—Product Names:

8345-00-242-0266—Flag, 3 Star, Outdoor, 58″ x 81″

8345-00-242-0267—Flag, 3 Star, Outdoor, 43″ x 62″

8345-00-242-0268—Flag, 3 Star, Outdoor, 22″ x 32″

8345-00-242-0269—Flag, 3 Star, Outdoor, 12″ x 15″

8345-00-242-0270—Flag, 2 Star, Outdoor, 58″ x 81″

8345-00-242-0271—Flag, 2 Star, Outdoor, 43″ x 62″

8345-00-265-7522—Pennant

8345-01-033-9300—Flag, 2 Star, Outdoor, 52″ x 66″

8345-01-085-6033—Flag, Commandant, 52″ x 66″

8345-01-085-6034—Flag, Vice Commandant, 52″ x 66″

8345-01-087-4592—Flag, Commandant, Outdoor 43″ x 62″

8345-01-087-4593—Flag, Commandant, Outdoor, 22″ x 32″

8345-01-087-4596—Flag, Vice Commandant, Outdoor 22″ x 32″

8345-01-087-4597—Flag, Vice Commandant, Automobile, 12″ x 15″

8345-01-168-1144—Flag, 1 Star, 52″ x 66″

8345-01-168-1145—Flag, 1 Star, Outdoor, 22″ x 32″

8345-01-168-1147—Flag, 1 Star, 43″ x 62″

8345-01-248-4071—Flag, 3 Star, 52″ x 66″

8345-01-298-7403—Flag, Standard Coast Guard, 52″ x 66″

8345-00-242-0272—Flag, 2 Star, Outdoor, 22x32

8345-01-087-4594—Flag, Commandant, Automobile, 12x15

8345-01-087-4595—Flag, Vice Commandant, Outdoor, 43x62

8345-01-168-1146—Flag, 1 Star, Automobile

Mandatory Source of Supply: Goodwill Industries of South Florida, Inc., Miami, FL

Contracting Activity: SFLC PROCUREMENT BRANCH 3, BALTIMORE, MD

Services

Service Type: Data Entry

Mandatory for: USDA, Food Safety & Inspection Services: 100 North Sixth Street, Minneapolis, MN

Contracting Activity: GENERAL SERVICES ADMINISTRATION, FPDS AGENCY COORDINATOR

Service Type: Document Destruction

Mandatory for: US Department of the Interior, Interior Business Center, Acquisition Services Directorate, Division III, Sierra Vista, AZ

Mandatory Source of Supply: Beacon Group, Inc., Tucson, AZ

Contracting Activity: DEPARTMENTAL OFFICES, IBC ACQ SERVICES DIVISION (00063)

Service Type: Janitorial/Custodial

Mandatory for: U.S. Army Reserve, Fridley USARC, Covington, VA

Mandatory Source of Supply: Goodwill Industries of the Valleys, Inc., Roanoke, VA

Contracting Activity: DEPT OF THE ARMY, W6QM MICC-FT DIX (RC-E)

Service Type: Janitorial/Custodial

Mandatory for: U.S. Army Reserve AFRC: 3938 Old French Road, Erie, PA

Mandatory Source of Supply: Dr. Gertrude A. Barber Center, Inc., Erie, PA

Contracting Activity: DEPT OF THE ARMY, W6QM MICC CTR-FT DIX (RC)

Service Type: Janitorial/Custodial

Mandatory for: Camp Lincoln Museum, Springfield, IL

Mandatory for: Combined Support Maintenance Shop, Springfield, IL

Mandatory for: U.S. Property and Fiscal Office Warehouse: Building 2, Springfield, IL

Mandatory for: U.S. Property and Fiscal Office, Building 1, Springfield, IL

Mandatory Source of Supply: United Cerebral Palsy of the Land of Lincoln, Springfield, IL

Contracting Activity: DEPT OF THE ARMY, W7M6 USPFO ACTIVITY IL ARNG

Patricia Briscoe,
Deputy Director, Business Operations (Pricing and Information Management).

[FR Doc. 2019-13203 Filed 6-20-19; 8:45 am]

BILLING CODE 6353-01-P